NUCLEAR REGULATORY COMMISSION

[NRC-2014-0260]

Entergy Nuclear Operations, Inc.; Vermont Yankee Nuclear Power Station

AGENCY: Nuclear Regulatory Commission.

ACTION: License amendment application; reopening of public comment period.

SUMMARY: On December 9, 2014, the U.S. Nuclear Regulatory Commission (NRC) solicited comments on, among other proposed actions, a proposed amendment for the Vermont Yankee Nuclear Power Station in a notice entitled, “Biweekly Notice; Applications and Amendments to Facility Operating Licenses and Combined Licenses Involving No Significant Hazards Considerations.” According to the notice, comments were required to be filed by January 8, 2015. Due to concerned stakeholders seeking additional time to provide comments, the NRC has decided to reopen the public comment period for the proposed amendment to the Vermont Yankee Nuclear Power Station Renewed Facility Operating License.

DATES: The comment period for the proposed amendment to the Vermont Yankee Nuclear Power Station Renewed Facility Operating License published on December 9, 2014 (79 FR 73106), has been reopened. Comments on this proposed action should be filed no later than February 9, 2015. Comments received after this date will be considered, if it is practical to do so, but the Commission is able to ensure consideration only for comments received on or before this date. This notice does not change the comment period for any of the other proposed actions included in the December 9, 2014, Federal Register notice.

ADDRESSES: You may submit comments by any of the following methods (unless this document describes a different method for submitting comments on a specific subject):

• Federal Rulemaking Web site: Go to http://www.regulations.gov and search for Docket ID NRC-2014-0260. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: James Kim, Office of Nuclear Reactor Regulation, U.S. Nuclear Regulatory Commission, Washington, DC 20555-0001; telephone: 301-415-4125, email: James.Kim@nrc.gov.

SUPPLEMENTARY INFORMATION:

I. Obtaining Information and Submitting Comments

A. Obtaining Information

Please refer to Docket ID NRC-2014-0260 when contacting the NRC about the availability of information for this action. You may obtain publicly-available information related to this action by any of the following methods:

• Federal rulemaking Web site: Go to http://www.regulations.gov and search for Docket ID NRC-2014-0260.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

B. Submitting Comments

Please include Docket ID NRC-2014-0260 in the subject line of your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 9, 2014 (79 FR 73106), the NRC solicited comments on, among other proposed actions, a proposed amendment for the Vermont Yankee Nuclear Power Station Renewed Facility Operating License. The public comment period closed on January 8, 2015. The NRC has decided to reopen the public comment period only for the Vermont Yankee Nuclear Power Station's proposed amendment to allow more time for members of the public to submit their comments. Comments on this proposed action may be filed no later than February 9, 2015. This notice does not change the comment period for any of the other proposed actions included in the December 9, 2014, Federal Register notice.

Dated in Rockville, Maryland, this 22nd day of January 2015.
For the Nuclear Regulatory Commission.
Douglas A. Broaddus,
Chief, Plant Licensing IV-2 and Decommissioning Transition Branch, Division of Operating Reactor Licensing, Office of Nuclear Reactor Regulation.

[FR Doc. 2015-01707 Filed 1-28-15; 8:45 am]

BILLING CODE 7590-01-P